INTERNATIONAL TRADE COMMISSION

[Investigation No. 337-TA-1213 (Rescission)]

Certain Light-Emitting Diode Products, Fixtures, and Components Thereof; Notice of a Commission Determination To Institute a Rescission Proceeding and Grant a Joint Petition To Rescind Remedial Orders; Termination of Rescission Proceeding

AGENCY: U.S. International Trade Commission.

ACTION: Notice.

SUMMARY: Notice is hereby given that the U.S. International Trade Commission (“the Commission”) has determined to institute a rescission proceeding and grant a joint petition to rescind remedial orders issued in the underlying investigation. The rescission proceeding is terminated.

FOR FURTHER INFORMATION CONTACT: Clint Gerdine, Esq., Office of the General Counsel, U.S. International Trade Commission, 500 E Street SW, Washington, DC 20436, telephone (202) 708-2310. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on August 17, 2020, based on a complaint filed on behalf of Ideal Industries Lighting LLC d/b/a Cree Lighting (“Cree”) of Durham, North Carolina. 85 FR 50047-48 (Aug. 17, 2020). The complaint, as supplemented, alleged violations of the Tariff Act of 1930, as amended, 19 U.S.C. 1337 (“section 337”), based upon the importation into the United States, the sale for importation, and the sale within the United States after importation of certain light-emitting diode products, fixtures, and components thereof by reason of infringement of certain claims of U.S. Patent Nos. 8,403,531 (“the '531 patent”); 8,596,819 (“the '819 patent”); 8,777,449 (“the '449 patent”); 9,261,270 (“the '270 patent”); and 9,476,570 (“the '570 patent”). The complaint further alleged the existence of a domestic industry. The Commission's notice of investigation named RAB Lighting Inc. (“RAB”) of Northvale, New Jersey as the sole respondent. The Office of Unfair Import Investigations did not participate in the investigation.

On August 17, 2021, the presiding administrative law judge issued a final initial determination (“ID”) finding a violation of section 337 based on infringement of the asserted claims of the '270 and '570 patents, and finding no violation with respect to the '531, '819, and '449 patents.

On October 25, 2021, the Commission determined not to review the ID's finding of a violation with respect to the '270 and '570 patents and the ID's finding of no violation with respect to the '449 patent. 86 FR 60071-72 (Oct. 29, 2021).

On December 16, 2021, the Commission, on review, issued a final determination affirming the ID's finding of no violation as to the '531 and '819 patents. 86 FR 72623-24 (Dec. 22, 2021). As a remedy for the finding of a violation with respect to the '270 and '570 patents, the Commission issued a limited exclusion order (“LEO”) directed against RAB's infringing products and a cease and desist order (“CDO”) directed against RAB. Id.

Cree and RAB each timely appealed the Commission's final determination to the U.S. Court of Appeals for the Federal Circuit. The separate appeals were subsequently consolidated. On March 28, 2022, the Cree and RAB jointly moved to voluntarily dismiss their appeal and cross-appeal. See Ideal Industries Lighting LLC v. ITC, Appeal Nos. 2022-1484, -1501, Joint Stipulation for Voluntary Dismissal (Mar. 28, 2022). The Federal Circuit granted the motion and dismissed the appeals the following day. See Ideal Industries Lighting LLC v. ITC, Appeal Nos. 22-1484, -1501, Order (Fed. Cir. Mar. 29, 2022).

On April 8, 2022, Cree and RAB jointly petitioned to rescind the previously-issued LEO and CDO based on settlement pursuant to 19 U.S.C. 1337(k) and Commission Rule 210.76(a) (19 CFR 210.76(a)). The parties filed both confidential and public versions of the settlement agreements.

Upon consideration of the parties' joint petition, the Commission has determined to institute a recission proceeding, grant the parties' joint petition, and rescind the remedial orders in this investigation. This rescission proceeding is terminated.

The Commission vote for this determination took place on May 6, 2022.

The authority for the Commission's determination is contained in section 337 of the Tariff Act of 1930, as amended, 19 U.S.C. 1337, and in Part 210 of the Commission's Rules of Practice and Procedure, 19 CFR part 210.

By order of the Commission.
Issued: May 6, 2022.
William Bishop,
Supervisory Hearings and Information Officer.

[FR Doc. 2022-10151 Filed 5-11-22; 8:45 am]

BILLING CODE 7020-02-P